DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on December 9, 2025. See SUPPLEMENTARY INFORMATION for relevant dates.

FOR FURTHER INFORMATION CONTACT: OFAC: Associate Director for Global Targeting, 202-622-2420; the Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On December 9, 2025, OFAC determined that the property and interests in property subject to U.S. jurisdiction of the following persons are blocked under the relevant sanctions authority listed below.

Individuals

1. DUQUE BOTERO, Mateo Andres, Calle 77 9 76 APT 302, Bogota, Colombia; DOB 07 Apr 1975; POB Bogota, Colombia; nationality Colombia; alt. nationality Spain; Gender Male; Cedula No. 79782423 (Colombia); Passport AS272175 (Colombia) expires 31 Mar 2026; alt. Passport XDD789846 (Spain); alt. Passport BF868819 (Colombia) expires 01 Mar 2035 (individual) [SUDAN-EO14098] (Linked To: MAINE GLOBAL CORP S.A.S.).

Designated pursuant to section 1(a)(ii)(B) of Executive Order 14098 of May 4, 2023, “Imposing Sanctions on Certain Persons Destabilizing Sudan and Undermining the Goal of a Democratic Transition,” (E.O. 14098), for being a foreign person who is or has been a leader, official, senior executive officer, or member of the board of directors of the Maine Global Corp S.A.S., an entity whose property and interests in property are blocked pursuant to E.O. 14098 relating to the tenure of such leader, official, senior executive officer, or member of the board of directors.

2. MUNOZ UCROS, Monica (Latin: MUÑOZ UCROS, Monica), Calle 77 9 76 APT 302, Bogota, Colombia; DOB 14 Jun 1976; POB Bogota, Colombia; nationality Colombia; Gender Female; Cedula No. 52413003 (Colombia); Passport AX032470 (Colombia) expires 11 Mar 2031 (individual) [SUDAN-EO14098] (Linked To: MAINE GLOBAL CORP S.A.S.).

Designated pursuant to section 1(a)(ii)(B) of E.O. 14098, for being a foreign person who is or has been a leader, official, senior executive officer, or member of the board of directors of the Maine Global Corp S.A.S., an entity whose property and interests in property are blocked pursuant to E.O. 14098 relating to the tenure of such leader, official, senior executive officer, or member of the board of directors.

3. OLIVEROS FORERO, Claudia Viviana, Bogota, Colombia; DOB 02 Jan 1973; POB Bogota, Colombia; nationality Colombia; Gender Female; Cedula No. 52252815 (Colombia); Passport AZ321704 (Colombia) expires 20 Jul 2032 (individual) [SUDAN-EO14098] (Linked To: INTERNATIONAL SERVICES AGENCY S.A.S.).

Designated pursuant to section 1(a)(ii)(B) of E.O. 14098, for being a foreign person who is or has been a leader, official, senior executive officer, or member of the board of directors of the International Services Agency S.A.S., an entity whose property and interests in property are blocked pursuant to E.O. 14098 relating to the tenure of such leader, official, senior executive officer, or member of the board of directors.

4. QUIJANO BECERRA, Alvaro Andres, Bogota, Colombia; United Arab Emirates; DOB 18 Jul 1967; POB Bogota, Colombia; nationality Colombia; alt. nationality Italy; Gender Male; Cedula No. 80413253 (Colombia); Passport AP628498 (Colombia); alt. Passport YB7731256 (Italy) expires 01 Mar 2031 (individual) [SUDAN-EO14098].

Designated pursuant to section 1(a)(i)(A) of E.O. 14098, for being a foreign person who is responsible for, or complicit in, or who has directly or indirectly engaged or attempted to engage in, actions or policies that threaten the peace, security, or stability of Sudan.

Entities

1. COMERCIALIZADORA SAN BENDITO S.A.S., Bogota, Colombia; NIT # 9011008200 (Colombia); Matricula Mercantil No 02846256 (Colombia) [SUDAN-EO14098] (Linked To: MUÑOZ UCROS, Monica).

Designated pursuant to section 1(a)(v) of E.O. 14098, for being a foreign person who is owned or controlled by, or has acted or purported to act for or on behalf of, directly or indirectly, Monica Munoz Ucros, a person whose property and interests in property are blocked pursuant to E.O. 14098.

2. TALENT BRIDGE, S.A. (a.k.a. GLOBAL STAFFING S.A.), Calle 54 Barrio PH Twist Tower, 28th Floor, Office F, Panama City, Panama; website https://globalstaffingsa.com/; RUC # 155722003-2-2022 (Panama) [SUDAN-EO14098] (Linked To: INTERNATIONAL SERVICES AGENCY S.A.S.).

Designated pursuant to section 1(a)(v) of E.O. 14098, for being a foreign person who is owned or controlled by, or has acted or purported to act for or on behalf of, directly or indirectly, International Services Agency S.A.S., a person whose property and interests in property are blocked pursuant to E.O. 14098.

3. INTERNATIONAL SERVICES AGENCY S.A.S. (a.k.a. “A4SI”; a.k.a. “ACADEMY FOR SECURITY INSTRUCTION S.A.S.”), Avenida Carrera 19 No. 97-31 Of. 603, Bogota, Colombia; website https://a4si.com.co; NIT # 9010625922 (Colombia); Matricula Mercantil No 02792522 (Colombia) [SUDAN-EO14098].

Designated pursuant to section 1(a)(i)(A) of E.O. 14098, for being a foreign person who is responsible for, or complicit in, or who has directly or indirectly engaged or attempted to engage in, actions or policies that threaten the peace, security, or stability of Sudan.

4. MAINE GLOBAL CORP S.A.S., Bogota, Colombia; website https://maineglobal.net; NIT # 9018645322 (Colombia); Matricula Mercantil No 03863364 (Colombia) [SUDAN-EO14098] (Linked To: TALENT BRIDGE, S.A.).

Designated pursuant to section 1(a)(iv) of E.O. 14098, for being a foreign person who has materially assisted, sponsored, or provided financial, material, or technological support for, or goods or services to or in support of, Global Staffing S.A., an entity whose property and interests in property are blocked pursuant to E.O. 14098.

(Authority: E.O. 14098.)

Bradley T. Smith,
Director, Office of Foreign Assets Control.

[FR Doc. 2025-22554 Filed 12-10-25; 8:45 am]

BILLING CODE 4810-AL-P